FEDERAL COMMUNICATIONS COMMISSION

47 CFR Part 64

[WC Docket No. 12-375, FCC 15-136]

Rates for Interstate Inmate Calling Services; Correction

AGENCY: Federal Communications Commission.

ACTION: Final rule; announcement of OMB approval; correction.

SUMMARY: This document corrects the date for filing responses to the one-time mandatory data collection published in the Federal Register of March 1, 2017, regarding the Office of Management and Budget's approval of data collections associated with the Commission's Inmate Calling Services Order (Order), FCC 15-136. This document corrects the due date for responses to the one-time mandatory data collection to March 1, 2019.

DATES: This correction is effective March 8, 2017.

FOR FURTHER INFORMATION CONTACT: Gil Strobel, Pricing Policy Division, Wireline Competition Bureau, at (202) 418-7084 or email: gil.strobel@fcc.gov.

SUPPLEMENTARY INFORMATION: In FR Doc. 2017-03900, published on March 1, 2017 (82 FR 12182), make the following correction:

On page 12183, in the third column, in last sentence of the first full paragraph, correct the date “March 1, 2017” to “March 1, 2019.”

Federal Communications Commission.
Marlene H. Dortch,
Secretary.

[FR Doc. 2017-04553 Filed 3-7-17; 8:45 am]

BILLING CODE 6712-01-P